ENVIRONMENTAL PROTECTION AGENCY

40 CFR Part 30

[FRL-9997-77-OA]

Strengthening Transparency in Regulatory Science: Notification of a Public Teleconference of the Chartered Science Advisory Board

AGENCY: Environmental Protection Agency (EPA).

ACTION: Announcement of teleconference.

SUMMARY: The Environmental Protection Agency (EPA) Science Advisory Board (SAB) Staff Office announces a public teleconference of the chartered SAB. The SAB will meet to conduct a consultation with the EPA on mechanisms for secure access to personally identifying information (PII) and confidential business information (CBI) as discussed in the proposed rulemaking “Strengthening Transparency in Regulatory Science” (April 30, 2018).

DATES: The public teleconference will be held on Tuesday, August 27, 2019, from 1 p.m. to 5 p.m. (Eastern time).

ADDRESSES: The public teleconference will be held by telephone only.

FOR FURTHER INFORMATION CONTACT: Any member of the public who wants further information concerning the meeting may contact Dr. Thomas Armitage, Designated Federal Officer (DFO), EPA Science Advisory Board (1400R), U.S. Environmental Protection Agency, 1200 Pennsylvania Avenue NW, Washington, DC 20460; via telephone/voice mail (202) 564-2155, or email at armitage.thomas@epa.gov. General information concerning the SAB can be found on the EPA website at http://www.epa.gov/sab.

SUPPLEMENTARY INFORMATION: Background: The SAB was established pursuant to the Environmental Research, Development, and Demonstration Authorization Act (ERDDAA), codified at 42 U.S.C. 4365, to provide independent scientific and technical advice to the Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public teleconference to conduct a consultation with EPA on mechanisms for secure access to personally identifying information (PII) and confidential business information (CBI) as discussed in the proposed rulemaking “Strengthening Transparency in Regulatory Science.” See (83 FR 18768, April 30, 2018)

EPA's proposed rulemaking (83 FR 18768, April 30, 2018) contains the following statements: (1) “When promulgating significant regulatory actions, the Agency shall ensure that dose response data and models underlying pivotal regulatory science are publicly available in a manner sufficient for independent validation.” (2) “Information is considered publicly available in a manner sufficient for independent validation when it includes the information necessary for the public to understand, assess, and replicate findings.” (3) “Where the Agency is making data or models publicly available, it shall do so in a fashion that is consistent with law, protects privacy, confidentiality, confidential business information, and is sensitive to national and homeland security.” Therefore, EPA has requested a consultation with the SAB on mechanisms for secure access to personally identifying information (PII) and confidential business information (CBI) as discussed in the proposed rule consistent with existing laws and policies that protect PII and CBI.

Availability of Meeting Materials: A meeting agenda and other materials for the meeting will be placed on the SAB website at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should contact the DFO directly.

Oral Statements: In general, individuals or groups requesting an oral presentation at a public teleconference will be limited to three minutes. Persons interested in providing oral statements at the August 27, 2019, teleconference should contact Dr. Thomas Armitage, DFO, in writing (preferably via email) at the contact information noted above by August 20, 2019, to be placed on the list of registered speakers.

Written Statements: Written statements for the August 27, 2019, teleconference should be received in the SAB Staff Office by August 20, 2019, so that the information can be made available to the SAB for its consideration prior to the meeting. Written statements should be supplied to the DFO at the contact information above via email (preferred) or in hard copy with original signature. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Dr. Armitage at the phone number or email address noted above, preferably at least ten days prior to the meeting, to give the EPA as much time as possible to process your request.

Dated: July 30, 2019.
Khanna Johnston,
Deputy Director, EPA Science Advisory Board Staff Office.

[FR Doc. 2019-16791 Filed 8-7-19; 8:45 am]

BILLING CODE 6560-50-P